DEPARTMENT OF COMMERCE

International Trade Administration

[A-570-831]

Fresh Garlic From the People's Republic of China: Notice of Extension of Time Limit for the Preliminary Results of Certain New Shipper Antidumping Duty Reviews

AGENCY: Import Administration, International Trade Administration, Department of Commerce.

ACTION: Notice of extension of time limit for the preliminary results of certain new shipper antidumping duty reviews.

SUMMARY: The Department of Commerce is extending the time limit for the preliminary results of two new shipper reviews of the antidumping duty order on fresh garlic from the People's Republic of China. This extension applies to the new shipper reviews for two producers/exporters, Jinan Yipin Corporation, Ltd., and Shandong Heze International Trade and Developing Company. The period of review is November 1, 2000, through October 31, 2001.

EFFECTIVE DATE: July 3, 2002.

FOR FURTHER INFORMATION CONTACT: Jennifer Moats or Brian Ellman, Office of AD/CVD Enforcement, Import Administration, International Trade Administration, U.S. Department of Commerce, 14th Street and Constitution Avenue, N.W., Washington, D.C. 20230; telephone: (202) 482-5047 or (202) 482-4852, respectively.

SUPPLEMENTARY INFORMATION:

The Applicable Statute

Unless otherwise indicated, all citations to the statute are references to the provisions effective January 1, 1995, the effective date of the amendments made to the Tariff Act of 1930 (the Act) by the Uruguay Round Agreements Act. In addition, unless otherwise indicated, all citations to the Department of Commerce's (the Department's) regulations are to 19 CFR Part 351 (2001).

Extension of Time Limit for Preliminary Results for New Shipper Reviews

On November 29, 2001, Shandong Heze International Trade and Developing Company requested a new shipper review, in accordance with section 751(a)(2)(B) of the Act and section 351.214(b) of the Department's regulations, of exports of its merchandise to the United States. Jinan Yipin Corporation, Ltd., also requested such a review of its exports to the United States on November 30, 2001. On January 7, 2002, the Department initiated new shipper reviews for these companies. See Fresh Garlic From the People's Republic of China: Initiation of New Shipper Antidumping Duty Reviews, 67 FR 715 (Jan. 7, 2002). The Department also initiated a new shipper review of exports of Huaiyang Hongda Dehydrated Vegetable Company (Hongda) to the United States. However, we have since determined that it is appropriate to rescind the review of Hongda. See Fresh Garlic From the People's Republic of China: Rescission of New Shipper Review and Initiation of New Shipper Review, published concurrently with this notice. The deadline for completing the preliminary results of these new shipper reviews currently is June 26, 2002.

A number of complex factual and legal questions related to the calculation of dumping margins have arisen in the new shipper reviews. Because a margin has not been calculated during an earlier segment of this proceeding, numerous issues have been raised and commented upon by the petitioner and a respondent concerning the factors of production and the valuation of those factors. In addition, in the case of both Jinan Yipin and Shandong Heze, we are still evaluating their responses to the original questionnaire and two supplemental questionnaires. Therefore, we find that the new shipper reviews are extraordinarily complicated and it is not practicable to complete these reviews within the time limits mandated by section 751(a)(2)(B)(iv) of the Act. As a result, we are extending the time limit for the preliminary results of these reviews to July 24, 2002.

Dated: June 26, 2002
Richard W. Moreland,
Deputy Assistant Secretary for AD/CVD Enforcement I.

[FR Doc. 02-16741 Filed 7-2-02; 8:45 am]

BILLING CODE 3510-DS-S